DEPARTMENT OF ENERGY

Federal Energy Regulatory Commission

Combined Notice of Filings #1

Take notice that the Commission received the following electric rate filings:

Docket Numbers: ER10-1355-009.

Applicants: Southern California Edison Company.

Description: Notice of Change in Status of Southern California Edison Company.

Filed Date: 1/29/21.

Accession Number: 20210129-5313.

Comments Due: 5 p.m. ET 2/19/21.

Docket Numbers: ER10-2331-075.

Applicants: J.P. Morgan Ventures Energy Corporation.

Description: Notice of Non-Material Change in Status of J.P. Morgan Ventures Energy Corporation.

Filed Date: 1/29/21.

Accession Number: 20210129-5414.

Comments Due: 5 p.m. ET 2/19/21.

Docket Numbers: ER11-4506-003.

Applicants: Devonshire Energy LLC.

Description: Notice of Change in Status of Devonshire Energy LLC.

Filed Date: 1/29/21.

Accession Number: 20210129-5409.

Comments Due: 5 p.m. ET 2/19/21.

Docket Numbers: ER18-1906-007; ER16-221-008; ER18-1907-007; ER17-1757-008; ER10-1767-010; ER10-1532-010; ER10-1541-011; ER10-1642-012; ER13-2349-009; ER13-2350-009.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC.

Description: Notice of Non-Material Change in Status of Entergy Arkansas, LLC, et al.

Filed Date: 1/29/21.

Accession Number: 20210129-5312.

Comments Due: 5 p.m. ET 2/19/21.

Docket Numbers: ER18-2224-011; ER20-2603-002.

Applicants: Pegasus Wind, LLC, Skeleton Creek Wind, LLC.

Description: Notice of Non-Material Change in Status of Pegasus Wind, LLC, et al.

Filed Date: 1/29/21.

Accession Number: 20210129-5410.

Comments Due: 5 p.m. ET 2/19/21.

Docket Numbers: ER19-1575-004; ER10-2488-020; ER10-3050-006; ER10-3052-005; ER10-3053-006; ER10-3245-012; ER10-3249-012; ER10-3250-012; ER11-2639-013; ER13-1586-016; ER14-2871-015; ER15-110-014; ER15-463-014; ER15-621-014; ER15-622-014; ER16-182-010; ER16-72-010; ER16-902-007; ER17-47-007; ER17-48-008; ER18-2013-004; ER18-2240-003; ER18-2241-003; ER18-47-006; ER19-1660-003; ER19-1662-003; ER19-1667-003; ER19-426-003; ER19-427-003; ER20-71-002; ER20-72-002; ER20-75-002; ER20-76-004; ER20-77-002; ER20-79-002.

Applicants: Alta Oak Realty, LLC, Cabazon Wind Partners, LLC, Cameron Ridge, LLC, Cameron Ridge II, LLC, Coachella Hills Wind, LLC, Coachella Wind Holdings, LLC, DifWind Farms LTD VI, Foote Creek II, LLC, Foote Creek III, LLC, Foote Creek IV, LLC, Garnet Wind, LLC, LUZ Solar Partners VIII, Ltd., LUZ Solar Partners IX, Ltd., Mojave 3/4/5 LLC, Mojave 16/17/18 LLC, Oasis Alta, LLC, Oasis Power Partners, LLC, Pacific Crest Power, LLC, Painted Hills Wind Holdings, LLC, Ridge Crest Wind Partners, LLC, Ridgetop Energy, LLC, Rock River I, LLC, San Gorgonio Westwinds II, LLC, San Gorgonio Westwinds II—Windustries,LLC, Tehachapi Plains Wind, LLC, Terra-Gen Dixie Valley, LLC, Terra-Gen Energy Services, LLC, Terra-Gen Mojave Windfarms, LLC, Terra-Gen VG Wind, LLC, TGP Energy Management, LLC, Voyager Wind I, LLC, Voyager Wind II, LLC, Voyager Wind IV Expansion, LLC, Whitewater Hill Wind Partners, LLC, Yavi Energy, LLC.

Description: Notice of Non-Material Change in Status of Alta Oak Realty, LLC, et al.

Filed Date: 1/29/21.

Accession Number: 20210129-5329.

Comments Due: 5 p.m. ET 2/19/21.

Docket Numbers: ER20-491-001.

Applicants: Lake Lynn Generation, LLC.

Description: Report Filing: Refund Report to be effective N/A.

Filed Date: 2/1/21.

Accession Number: 20210201-5135.

Comments Due: 5 p.m. ET 2/22/21.

Docket Numbers: ER20-492-001.

Applicants: York Haven Power Company, LLC.

Description: Report Filing: Refund Report to be effective N/A.

Filed Date: 2/1/21.

Accession Number: 20210201-5136.

Comments Due: 5 p.m. ET 2/22/21.

Docket Numbers: ER20-1915-001; ER20-1916-001.

Applicants: Maverick Solar, LLC, Maverick Solar 4, LLC.

Description: Notice of Change in Status of Maverick Solar, LLC, et al. under ER20-1915, et al.

Filed Date: 1/29/21.

Accession Number: 20210129-5406.

Comments Due: 5 p.m. ET 2/19/21.

Docket Numbers: ER20-1980-003; ER20-1417-004; ER20-2049-002; ER20-2695-002.

Applicants: Cedar Springs Wind, LLC, Cedar Springs Wind III, LLC, Mohave County Wind Farm LLC, Roundhouse Renewable Energy, LLC.

Description: Notice of Non-Material Change in Status of Cedar Springs Wind, LLC, et al.

Filed Date: 1/29/21.

Accession Number: 20210129-5408.

Comments Due: 5 p.m. ET 2/19/21.

Docket Numbers: ER21-214-001.

Applicants: Baltimore Gas and Electric Company, PJM Interconnection, L.L.C.

Description: Compliance filing: BGE submits Compliance Filing re: Revisions to PJM Tariff, Attachment H-2B to be effective 1/1/2021.

Filed Date: 2/1/21.

Accession Number: 20210201-5132.

Comments Due: 5 p.m. ET 2/22/21.

Docket Numbers: ER21-521-001.

Applicants: Richmond Spider Solar, LLC.

Description: Compliance filing: Revised Rate Schedule FERC No. 1 Under Docket ER21-521 to be effective 12/2/2020.

Filed Date: 2/1/21.

Accession Number: 20210201-5182.

Comments Due: 5 p.m. ET 2/22/21.

Docket Numbers: ER21-1003-000.

Applicants: California Independent System Operator Corporation.

Description: § 205(d) Rate Filing: 2021-01-29 EIM Implementation Agreement—El Paso to be effective 4/5/2021.

Filed Date: 1/29/21.

Accession Number: 20210129-5265.

Comments Due: 5 p.m. ET 2/19/21.

Docket Numbers: ER21-1004-000.

Applicants: Florida Power & Light Company.

Description: Compliance filing: Florida Power & Light Company Notice of Succession to be effective N/A.

Filed Date: 1/29/21.

Accession Number: 20210129-5273.

Comments Due: 5 p.m. ET 2/19/21.

Docket Numbers: ER21-1005-000.

Applicants: Montana-Dakota Utilities Co.

Description: § 205(d) Rate Filing: Notice of Change in Status Under Schedule 2 of MISO's Tariff to be effective 4/1/2021.

Filed Date: 1/29/21.

Accession Number: 20210129-5277.

Comments Due: 5 p.m. ET 2/19/21.

Docket Numbers: ER21-1006-000.

Applicants: El Paso Electric Company.

Description: § 205(d) Rate Filing: Service Agreement No. 347, Nonconforming LGIA with Hecate to be effective 1/7/2021.

Filed Date: 1/29/21.

Accession Number: 20210129-5301.

Comments Due: 5 p.m. ET 2/19/21.

Docket Numbers: ER21-1007-000.

Applicants: El Paso Electric Company.

Description: § 205(d) Rate Filing: Service Agreement No. 348, Nonconforming LGIA with Hecate 2 to be effective 1/7/2021.

Filed Date: 1/29/21.

Accession Number: 20210129-5307.

Comments Due: 5 p.m. ET 2/19/21.

Docket Numbers: ER21-1008-000.

Applicants: New England Power Pool Participants Committee.

Description: § 205(d) Rate Filing: February 2021 Membership Filing to be effective 1/1/2021.

Filed Date: 2/1/21.

Accession Number: 20210201-5002.

Comments Due: 5 p.m. ET 2/22/21.

Docket Numbers: ER21-1009-000.

Applicants: Midcontinent Independent System Operator, Inc.

Description: § 205(d) Rate Filing: 2021-02-01_SA 2963 MidAmerican-MidAmerican 2nd Rev GIA (J498) to be effective 1/20/2021.

Filed Date: 2/1/21.

Accession Number: 20210201-5057.

Comments Due: 5 p.m. ET 2/22/21.

Docket Numbers: ER21-1010-000.

Applicants: ISO New England Inc.

Description: Compliance filing: ISO-NE; Revisions in Compliance with Order to Remove the Price-Lock from the FCM to be effective 4/2/2021.

Filed Date: 2/1/21.

Accession Number: 20210201-5088.

Comments Due: 5 p.m. ET 2/22/21.

Docket Numbers: ER21-1011-000.

Applicants: Wolverine Power Supply Cooperative, Inc.

Description: Tariff Cancellation: Notice of Cancellation of Rate Schedule to be effective 2/2/2021.

Filed Date: 2/1/21.

Accession Number: 20210201-5093.

Comments Due: 5 p.m. ET 2/22/21.

Docket Numbers: ER21-1012-000.

Applicants: Duquesne Light Company, PJM Interconnection, L.L.C.

Description: § 205(d) Rate Filing: Duquesne Light Company 2021 MDTAC Filing to be effective 4/2/2021.

Filed Date: 2/1/21.

Accession Number: 20210201-5145.

Comments Due: 5 p.m. ET 2/22/21.

Docket Numbers: ER21-1013-000.

Applicants: PJM Interconnection, L.L.C.

Description: § 205(d) Rate Filing: Original ISA, SA No. 5680; Queue No. AC1-120/AC1-121 to be effective 6/11/2020.

Filed Date: 2/1/21.

Accession Number: 20210201-5160.

Comments Due: 5 p.m. ET 2/22/21.

Docket Numbers: ER21-1014-000.

Applicants: PJM Interconnection, L.L.C.

Description: § 205(d) Rate Filing: Correction to Original ISA, SA No. 5772; Queue No. AC1-113/AC2-115 to be effective 8/24/2020.

Filed Date: 2/1/21.

Accession Number: 20210201-5187.

Comments Due: 5 p.m. ET 2/22/21.

Take notice that the Commission received the following electric securities filings:

Docket Numbers: ES21-29-000.

Applicants: Rockland Electric Company.

Description: Application under Section 204 of the Federal Power Act for Authorization to Issue Securities for Rockland Electric Company.

Filed Date: 1/29/21.

Accession Number: 20210129-5429.

Comments Due: 5 p.m. ET 2/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2021.
Nathaniel J. Davis, Sr.,
Deputy Secretary.

[FR Doc. 2021-02420 Filed 2-4-21; 8:45 am]

BILLING CODE 6717-01-P